DEPARTMENT OF TRANSPORTATION

Federal Aviation Administration

14 CFR Part 39

[Docket No. 2002-NM-157-AD]

RIN 2120-AA64

Airworthiness Directives; Bombardier Model CL-600-1A11 (CL-600), CL-600-2A12 (CL-601), and CL-600-2B16 (CL-601-3A, CL-601-3R, and CL-604) Series Airplanes

AGENCY: Federal Aviation Administration, DOT.

ACTION: Notice of proposed rulemaking (NPRM).

SUMMARY: This document proposes the adoption of a new airworthiness directive (AD) that is applicable to certain Bombardier Model CL-600-1A11 (CL-600), CL-600-2A12 (CL-601), and CL-600-2B16 (CL-601-3A, CL-601-3R, and CL-604) series airplanes. This proposal would require revising the Airplane Flight Manual (AFM) to provide the flightcrew with procedures and limitations for operating the airplane with out-of-tolerance angle of attack (AOA) transducers. This proposal also would require, among other actions, measuring the vane angles and voltage of the AOA transducers; reworking the AOA transducer assemblies; repetitive measurements of the resistance of both AOA transducers; and follow-on and corrective actions, as applicable. This action is necessary to prevent flat spots on the potentiometers of the AOA transducers due to wear, which may cause a delay in the commands for stall warning, stick shaker, and stick pusher operation. This action is intended to address the identified unsafe condition.

DATES: Comments must be received by March 31, 2003.

ADDRESSES: Submit comments in triplicate to the Federal Aviation Administration (FAA), Transport Airplane Directorate, ANM-114, Attention: Rules Docket No. 2002-NM-157-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-157-AD” in the subject line and need not be submitted in triplicate. Comments sent via the Internet as attached electronic files must be formatted in Microsoft Word 97 for Windows or ASCII text.

The service information referenced in the proposed rule may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York.

FOR FURTHER INFORMATION CONTACT: Luciano Castracane, Aerospace Engineer, Systems and Flight Test Branch, ANE-172, FAA, New York Aircraft Certification Office, 10 Fifth Street, Third Floor, Valley Stream, New York 11581; telephone (516) 256-7535; fax (516) 568-2716.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-157-AD.” The postcard will be date stamped and returned to the commenter.

Availability of NPRMs

Any person may obtain a copy of this NPRM by submitting a request to the FAA, Transport Airplane Directorate, ANM-114, Attention: Rules Docket No. 2002-NM-157-AD, 1601 Lind Avenue, SW., Renton, Washington 98055-4056.

Discussion

Transport Canada Civil Aviation (TCCA), which is the airworthiness authority for Canada, notified the FAA that an unsafe condition may exist on certain Bombardier Model CL-600-1A11 (CL-600), CL-600-2A12 (CL-601), and CL-600-2B16 (CL-601-3A, CL-601-3R, and CL-604) series airplanes. TCCA advises that, during testing of an airplane, flat spots were discovered on the potentiometers of the angle of attack (AOA) transducers due to wear. Since the AOA transducers work in conjunction with the stall protection system (SPS), these flat spots, if not corrected, may cause a delay in the commands for stall warning, stick shaker, and stick pusher operation.

Explanation of Relevant Service Information

The manufacturer has issued the applicable Canadair Challenger temporary revisions to the Airplane Flight Manual (AFM) listed in Table 2 of this AD. The temporary revisions describe procedures for revising the Limitations, Emergency Procedures, Normal Procedures, and Abnormal Procedures Sections of the FAA-approved Canadair Challenger AFM, as applicable, to provide the flightcrew with procedures and limitations for operating the airplane with out-of-tolerance AOA transducers.

The manufacturer also has issued the applicable Bombardier service bulletins listed in Table 3 of this AD, which describe the following procedures:

• Measuring the vane angles and voltage of the AOA transducers; follow-on and corrective actions, as applicable; and recording and reporting incorporation of the service bulletin to Bombardier. The follow-on and corrective actions include replacing the stall protection computer (SPC) with a new SPC; recording and repeating actions; disconnecting the breakout box; measuring the baseline resistance of the AOA transducer between certain pins; and measuring the baseline resistance of the other AOA transducer for temporary deferral of reworking the AOA transducer assemblies; as applicable. Certain follow-on actions eliminate the need for the AFM revisions described previously.

• Reworking the AOA transducer assemblies and measuring the baseline resistance of the applicable AOA transducers, which eliminate the need for the AFM revisions described previously;

• Performing repetitive measurements of the resistance of both AOA transducers, and doing applicable corrective actions. The corrective actions include replacement of the AOA transducer with new AOA transducer; visual inspection of the vane assembly; rework, if necessary; a test; and measurement of baseline resistance of the applicable AOA transducer.

In addition, the manufacturer has issued Bombardier Alert Service Bulletin A601-0519, dated July 30, 1999, including Service Bulletin Incorporation Sheet (for Model CL-600-2A12 (CL-601) and CL-600-2B16 (CL-601-3A and -3R) series airplanes); Bombardier Alert Service Bulletin A600-0693, dated July 30, 1999, including Service Bulletin Incorporation Sheet (for Model CL-600-1A11 (CL-600) series airplanes); and Bombardier Alert Service Bulletin A604-11-009, dated July 30, 1999, including Service Bulletin Incorporation Sheet (for Model CL-600-2B16 (CL-604) series airplanes); as applicable. These service bulletins describe procedures for performing an inspection of the left- and right-side AOA vane decal to verify that the correct decal is installed; performing corrective action if necessary; and recording and reporting incorporation of the service bulletin to Bombardier. The corrective action includes replacing the incorrect AOA vane decal(s) with new, correct vane decal(s), and ensuring that the new decal(s) is the correct type; or removing existing decals, and doing alignment check(s) of the AOA vane transducers, if replacement decals are not available.

Accomplishment of the actions specified in the applicable temporary revisions and service bulletins is intended to adequately address the identified unsafe condition. TCCA has issued Canadian airworthiness directive CF-2002-05, dated January 18, 2002, in order to assure the continued airworthiness of these airplanes in Canada.

FAA's Conclusions

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the applicable temporary revisions and service bulletins described previously, except as discussed below.

Differences Between Proposed Rule and Canadain Airworthiness Directive

Operators should note that, although the parallel Canadian airworthiness directive requires operators to forward a copy of the Test Result Sheets and Service Bulletin Incorporation Sheets of the applicable service bulletin to Bombardier, this proposed AD would not require those actions.

Cost Impact

The FAA estimates that 424 Bombardier Model CL-600-1A11 (CL-600), CL-600-2A12 (CL-601), and CL-600-2B16 (CL-601-3A, CL-601-3R, and CL-604) series airplanes of U.S. registry would be affected by this proposed AD. Table—Cost Impact shows the estimated cost impact for airplanes affected by this AD. The average labor rate is $60 per work hour.

Table.—Cost Impact
Actions | Work hour(s) | Parts cost | Total cost per airplane
AFM revision | 1 | none | $60
Measurement of the vane angles and voltage of AOA transducers (Part A) | 5 | none | 300
Rework the AOA transducer assemblies and measurement of the baseline resistance of the applicable AOA transducers (Part B) | 17 | $161 | 2,737
Measurement of the resistance of both AOA transducers (Part C) | 1 | none | 60
Inspection of the left- and right-side AOA vane decal | 1 | none | 60

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. Manufacturer warranty remedies may be available for labor costs associated with this proposed AD. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Bombardier, Inc. (Formerly Canadair): Docket 2002-NM-157-AD.

Applicability: This AD applies to the airplanes listed in Table 1 of this AD, certificated in any category:

Table 1.—Applicability
Model | Serial Nos.
CL-600-1A11 (CL-600) series airplanes | 1004 through 1085 inclusive.
CL-600-2A12 (CL-601) series airplanes | 3001 through 3066 inclusive.
CL-600-2B16 (CL-601-3A and -3R) series airplanes | 5001 through 5194 inclusive.
CL-600-2B16 (CL-604) series airplanes | 5301 and subsequent.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (n) of this AD. The request should include an assessment of the effect of the modification, alteration, or repair on the unsafe condition addressed by this AD; and, if the unsafe condition has not been eliminated, the request should include specific proposed actions to address it.

Compliance: Required as indicated, unless accomplished previously.

To prevent flat spots on the potentiometers of the AOA transducers due to wear, which may cause a delay in the commands for stall warning, stick shaker, and stick pusher operation, accomplish the following:

Revision of Airplane Flight Manual (AFM)

(a) Before the accumulation of 300 total flight hours, or within 7 days after the effective date of this AD, whichever occurs later, revise the Limitations, Emergency Procedures, Normal Procedures, and Abnormal Procedures Sections, as applicable, of the applicable Canadair Challenger AFM by inserting a copy of the applicable Temporary Revision listed in Table 2 of this AD. Table 2 is as follows (some Temporary Revisions listed in Table 2 of this AD contain Product Support Publication (PSP) identifiers):

Table 2.—Temporary Revisions
Model | PSP | Temporary revision | Date
CL-600-1A11 (CL-600) series airplanes | none none none PSP 600-1-18 | 600/21 600/20 600-1/17 600-1/13 | November 26, 2001. November 26, 2001. November 26, 2001. November 26, 2001
CL-600-2A12 (CL-601) series airplanes | none PSP 601-1A-1 PSP 601-1A-17 PSP 601-1A-18 PSP 601-1B PSP-601-1B-1 | 601/25 601/13 601/24 601/25 601/17 601/12 | November 26, 2001. November 26, 2001. November 26, 2001. November 26, 2001. November 26, 2001. November 26, 2001.
CL-600-2B16 (CL-601-3A and -3R) series airplanes | PSP 601A-1 PSP 601A-1-1 PSP 601A-1-17 PSP 601A-1-18 PSP 601A-1-18A PSP 601A-1-20A | 601/23 601/22 601/22 601/21 601/24 601/15 | November 26, 2001. November 26, 2001. November 26, 2001. November 26, 2001. November 26, 2001. November 26, 2001.
CL-600-2B16 (CL-604) series airplanes | PSP 604-1 | 604/9 | November 26, 2001.

Measurement

(b) Before the accumulation of 300 total flight hours, or within 200 flight hours after the effective date of this AD, whichever occurs later, measure the vane angles and voltage of the angle of attack (AOA) transducers by doing all actions specified in “PART A—Initial Special Check” of the Accomplishment Instructions of the applicable alert service bulletin listed in Table 3 of this AD, per the applicable Bombardier alert service bulletin; except that it is not necessary to complete the Test Results and Service Bulletin Incorporation Sheets. Table 3 is as follows:

Table 3.—Alert Service Bulletins
For model— | Alert service bulletin | Date | Including—
CL-600-1A11 (CL-600) series airplanes | A600-0715 | January 7, 2002 | Service Bulletin Compliance Sheet and Appendices A and B.
CL-600-2A12 (CL-601) series airplanes, and CL-600-2B16 (CL-600-3A and -3R) series airplanes | A601-0550 | January 7, 2002 | Service Bulletin Compliance Sheet and Appendices A and B.
CL-600-2B16 (CL-604) series airplanes | A604-27-011 | January 7, 2002 | Service Bulletin Compliance Sheet and Appendices A and B.

Any Voltage Outside Tolerances: Replacement

(c) If, during the measurement required by paragraph (b) of this AD, any recorded voltage is found to be outside the tolerances specified in the applicable Bombardier alert service bulletin identified in Table 3 of this AD, before further flight, replace the stall protection computer (SPC) with a new SPC and do the follow-on actions (i.e., recording in Appendix A and repeat actions), per “PART A—Initial Special Check” of the Accomplishment Instructions of the applicable Bombardier alert service bulletin identified in Table 3 of this AD.

All Vane Angles Within Tolerances: Disconnection and Measurement

(d) If, during the measurement required by paragraph (b) of this AD, all of the recorded AOA vane angles for both AOA transducers are found to be within the tolerances specified in the applicable Bombardier alert service bulletin listed in Table 3 of this AD, before further flight, do the follow-on actions (i.e., disconnect breakout box, and measure the baseline resistance of the AOA transducer between certain pins), per “PART B—AOA Transducer Assembly Rework/Baseline Resistance Check” of the Accomplishment Instructions of the applicable Bombardier alert service bulletin identified in Table 3 of this AD. After doing the follow-on actions, the applicable AFM revision required by paragraph (a) of this AD may be removed from the AFM.

One or More AOA Vane Angles Outside Tolerances, But All Vane Angles Within Tolerances

(e) If, during the measurement required by paragraph (b) of this AD, one or more of the recorded AOA vane angles for either or both AOA transducers are found to be outside the tolerances specified in the applicable Bombardier alert service bulletin listed in Table 3 of this AD, but all recorded vane angles are within the expanded tolerances specified in “Table A—Tolerances” of “PART A—Initial Special Check” of the Accomplishment Instructions of the applicable Bombardier alert service bulletin identified in Table 3 of this AD, do the action specified in paragraph (e)(1) of this AD, except as provided by paragraph (e)(2) of this AD.

(1) Before further flight, do the actions specified in paragraph (g) of this AD.

(2) In lieu of doing the actions required by paragraph (e)(1) of this AD, do the actions specified in paragraphs (e)(2)(i) and (e)(2)(ii) of this AD.

(i) Before further flight, measure the baseline resistance of the other AOA transducer (with recorded vane angles within the tolerances specified in the applicable Bombardier alert service bulletin listed in Table 3 of this AD) per “Table A—Tolerances” of “PART A—Initial Special Check” of the Accomplishment Instructions of the applicable Bombardier alert service bulletin identified in Table 3 of this AD.

(ii) Within 150 flight hours after doing the measurement required by paragraph (b) of this AD, do the actions specified in paragraph (g) of this AD.

Any AOA Vane Angle Outside Tolerances

(f) If, during the measurement required by paragraph (b) of this AD, any recorded AOA vane angle of the AOA transducers is found to be outside the tolerances specified in the applicable Bombardier alert service bulletin listed in Table 3 of this AD, before further flight, do the actions specified in paragraph (g) of this AD.

Transducer Assembly Rework and Baseline Resistance Measurement

(g) Except as provided by paragraph (e)(2) of this AD, before further flight after doing the measurement required by paragraph (b) of this AD, rework the AOA transducer assemblies and measure the baseline resistance of the applicable AOA transducers by doing all actions specified in “PART B—AOA Transducer Assembly Rework/Baseline Resistance Check” of the Accomplishment Instructions of the applicable Bombardier alert service bulletin identified in Table 3 of this AD, per the applicable Bombardier alert service bulletin. After doing the rework, the applicable AFM revision required by paragraph (a) of this AD may be removed from the AFM.

Repetitive Measurements and Corrective Actions

(h) Within 300 flight hours after doing the measurement required by paragraph (b) of this AD, measure the resistance of both AOA transducers by doing all actions specified in “PART C—Repetitive Resistance Check/AOA Transducer Assembly Rework” of the Accomplishment Instructions of the applicable alert service bulletin listed in Table 3 of this AD, per the applicable Bombardier alert service bulletin. Repeat the measurement at least every 300 flight hours.

(i) If, during the measurement required by paragraph (h) of this AD, any recorded resistance is found to be outside the tolerances specified in the applicable Bombardier alert service bulletin listed in Table 3 of this AD (i.e., more than 20 ohms from its baseline resistance value), before further flight, do corrective actions (e.g., replace AOA transducer with new AOA transducer; perform a visual inspection of the vane assembly; rework, if necessary; a test; and measure baseline resistance of applicable AOA transducer), as applicable, per PART C—Repetitive Resistance Check/AOA Transducer Assembly Rework” of the Accomplishment Instructions of the applicable alert service bulletin listed in Table 3 of this AD.

Concurrent Requirements: Inspection

(j) For airplanes identified in paragraphs (j)(1), (j)(2), and (j)(3) of this AD: Before or at the same time with accomplishment of the requirements of paragraph (b) of this AD, inspect the left- and right-side AOA vane decal to verify that the correct decal is installed per paragraph (j)(1), (j)(2), or (j)(3) of this AD, as applicable.

(1) For Model CL-600-2A12 (CL-601) and CL-600-2B16 (CL-601-3A and -3R) series airplanes having serial numbers 3001 through 3066 inclusive, and 5001 through 5194 inclusive, respectively, on which AOA calibration decals, part numbers (P/N) 600-52267-5 and 600-52267-6, have been installed: Inspect per Bombardier Alert Service Bulletin A601-0519, dated July 30, 1999, excluding Service Bulletin Compliance Sheet.

(2) For Model CL-600-1A11 (CL-600) series airplanes having serial numbers 1004 through 1085 inclusive, on which AOA calibration decals, P/Ns 600-52267-5 and 600-52267-6, have been installed: Inspect per Bombardier Alert Service Bulletin A600-0693, dated July 30, 1999, excluding Service Bulletin Compliance Sheet.

(3) For Model CL-600-2B16 (CL-604) series airplanes having serial numbers 5301 through 5990 inclusive, on which AOA calibration decals, P/Ns 600-52267-5 and 600-52267-6, have been installed: Inspect per Bombardier Alert Service Bulletin A604-11-009, dated July 30, 1999, excluding Service Bulletin Compliance Sheet.

Concurrent Requirements: Corrective Actions

(k) If either of the AOA vane decals is found to be incorrect during the inspection required by paragraph (j) of this AD, before further flight, replace the AOA vane decal(s) with new vane decal(s), and ensure that the new decal(s) is the correct type, per the applicable alert service bulletin identified in paragraph (j)(1), (j)(2), or (j)(3) of this AD; except as provided by paragraph (l) of this AD.

(l) If replacement decals are not available, before further flight, remove existing decals and do the alignment check(s) of the AOA vane transducers per the applicable alert service bulletin identified in paragraph (j)(1), (j)(2), or (j)(3) of this AD.

Parts Installation

(m) As of the effective date of this AD, no person shall install an AOA transducer assembly on any airplane, unless the actions required by paragraphs (b) through (l) of this AD, as applicable, have been done.

Alternative Methods of Compliance

(n) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 2: Information concerning the existence of approved alternative methods of compliance with this AD, if any, may be obtained from the New York ACO.

Special Flight Permits

(o) Special flight permits may be issued in accordance with sections 21.197 and 21.199 of the Federal Aviation Regulations (14 CFR 21.197 and 21.199) to operate the airplane to a location where the requirements of this AD can be accomplished.

Note 3: The subject of this AD is addressed in Canadian airworthiness directive CF-2002-05, dated January 18, 2002.

Issued in Renton, Washington, on February 21, 2003.
Ali Bahrami,
Acting Manager, Transport Airplane Directorate, Aircraft Certification Service.

[FR Doc. 03-4739 Filed 2-27-03; 8:45 am]

BILLING CODE 4910-13-P